DEPARTMENT OF TRANSPORTATION

Research and Special Programs Administration

Office of Hazardous Materials Safety; Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: J. Suzanne Hedgepeth, Director, Office of Hazardous Materials, Exemptions and Approvals, Research and Special Programs Administration, U.S. Department of Transportation, 400 Seventh Street, SW., Washington, DC 20590-0001, (202) 366-4535.

Key to “Reasons for Delay”

1. Awaiting additional information from applicant.

2. Extensive public comment under review.

3. Application is technically complex and is of significant impact or precedent-setting and requires extensive analysis.

4. Staff review delayed by other priority issues or volume of exemption applications.

Meaning of Application Number Suffixes

N—New application.

M—Modification request.

PM—Party to application with modification request.

Issued in Washington, DC, on December 19, 2000.
J. Suzanne Hedgepeth,
Director, Office of Hazardous Materials Exemptions and Approvals.

Application No. | Applicant | Reason for delay | Estimated date of completion
New Exemption Applications
11862-N | The BOC Group, Murray Hill, NJ | 4 | 01/31/2001
11927-N | Alaska Marine Lines, Inc., Seattle, WA | 4 | 01/31/2001
12142-N | Aristech Chemical Corp., Pittsburgh, PA | 4 | 01/31/2001
12158-N | Hickson Corporation, Conley, GA | 4 | 01/31/2001
12181-N | Aristech, Pittsburgh, PA | 4 | 01/31/2001
12248-N | Ciba Specialty Chemicals Corp., High Point, NC | 4 | 01/31/2001
12281-N | ABS Group, Inc., Houston, TX | 4 | 01/31/2001
12290-N | Savage Industries, Inc., Pottstown, PA | 4 | 01/31/2001
12307-N | Kern County Dept. of Weights & Measures, Bakersfield, CA | 4 | 01/31/2001
12332-N | Automotive Occupant Restraints Council, Lexington, KY | 4 | 01/31/2001
12339-N | BOC Gases, Murray Hill, NJ | 4 | 01/31/2001
12353-N | Monson Companies, South Portland, ME | 4 | 01/31/2001
12355-N | Union Tank Car Company, East Chicago, IN | 4 | 01/31/2001
12368-N | Occidental Chemical Corp., Dallas, TX | 4 | 01/31/2001
12381-N | Ideal Chemical & Supply Co., Memphis, TN | 4 | 01/31/2001
12397-N | Astaris, LLC (formerly FMC Corp.), Philadelphia, PA | 4 | 01/31/2001
12406-N | Occidental Chemical Corporation, Dallas, TX | 4 | 01/31/2001
12412-N | Great Western Chemical Company, Portland, OR | 4 | 01/31/2001
12422-N | Connecticut Yankee Atomic Power Co., East Hampton, CT | 1, 4 | 01/31/2001
12433-N | The Lighter Company, Inc., Miami, FL | 4 | 01/31/2001
12434-N | Salmon Air, Salmon, ID | 4 | 01/31/2001
12440-N | Luxfer Inc., Riverside, CA | 4 | 02/28/2001
12443-N | ChemCentral/Charlotte, Charlotte, NC | 4 | 02/28/2001
12444-N | ST Services, Dallas, TX | 4 | 02/28/2001
12454-N | Ethyl Corp., Richmond, VA | 4 | 02/28/2001
12455-N | United States Marine Safety Association, Philadelphia, PA | 4 | 02/28/2001
12456-N | Baker Hughes, Houston, TX | 4 | 02/28/2001
12469-N | Department of Energy, Germantown, MD | 4 | 01/31/2001
12473-N | Old Bridge Metals & Chemicals, Inc., Old Bridge, NJ | 4 | 01/31/2001
12475-N | Chemetall GmbH Gesellschaft, Langlshiem, DE | 4 | 02/28/2001
12476-N | Fisher-Rosemount Petroleum, Tulsa, OK | 4 | 02/28/2001
12479-N | Luxfer Gas Cylinder, Riverside, CA | 4 | 02/28/2001
12485-N | StanTrans Services, Dallas, TX | 4 | 02/28/2001
12491-N | PPG Industries, Inc., Pittsburgh, PA | 4 | 12/29/2000
12493-N | Caroline Power & Light Co., Southport, NC | 4 | 02/28/2001
12495-N | South Carolina Electric & Gas Co., Jenkinsville, SC | 4 | 02/28/2001
12497-N | Henderson International Technologies, Inc., Richardson, TX | 4 | 02/28/2001
12515-N | FIBA Technologies, Inc., Westboro, MA | 4 | 02/28/2001
12517-N | Cytec Industries Inc., Willow Island, WV | 4 | 02/28/2001
Modifications to Exemptions
4661-M | Chemetall Foote Corporation, Kings Mountain, NC | 4 | 01/31/2001
6658-M | Mason & Hanger Corp. (USDOE/Pantex Plant), Amarillo, TX | 4 | 01/31/2001
8086-M | The Boeing Co (Mil Aircraft & Missiles Sys Group), Seattle, WA | 4 | 01/31/2001
8308-M | Tradewind Enterprises, Inc., Hillsboro, OR | 4 | 01/31/2001
8554-M | Orica USA, Inc., Englewood, CO | 4 | 01/31/2001
10656-M | Conf. of Radiation Control Program Directors, Inc., Frankfort, KY | 4 | 01/31/2001
10672-M | Burlington Packaging, Inc., Brooklyn, NY | 4 | 01/31/2001
11296-M | Heritage Transport, LLC, Indianapolis, IN | 4 | 01/31/2001
11316-M | TRW Automotive, Queen Creek, AZ | 4 | 01/31/2001
11537-M | JCI Jones Chemicals, Inc., Milford, VA | 4 | 01/31/2001
11769-M | Great Western Chemical Company, Portland, OR | 4 | 01/31/2001
11769-M | Great Western Chemical Company, Portland, OR | 4 | 01/31/2001
11769-M | Hydrite Chemical Company, Brookfield, WI | 4 | 01/31/2001
11798-M | Air Products and Chemicals, Inc., Allentown, PA | 4 | 01/31/2001
11798-M | Anderson Development Company, Adrian, MI | 4 | 01/31/2001
11911-M | Transfer Flow, Inc., Chico, CA | 4 | 02/28/2001
11916-M | CP Industries, Inc., McKeesport, PA | 4 | 02/28/2001
11967-M | Savage Industries Incorporated, Pottstown, PA | 4 | 02/28/2001
12074-M | Van Hool NV, B-2500 Lier Koningshooikt, BG | 1 | 02/28/2001
12130-M | FIBA Technologies, Inc., Westboro, MA | 4 | 02/28/2001
12178-M | STC Technologies, Inc., Bethlehem, PA | 1 | 02/28/2001
12301-M | Steptoe & Johnson, LLP, Washington, DC | 4 | 02/28/2001

[FR Doc. 01-238 Filed 1-3-01; 8:45 am]

BILLING CODE 4910-60-M